DEPARTMENT OF TRANSPORTATION

Maritime Administration

[Docket No. DOT-MARAD—2015-0012]

Agency Requests for Renewal of a Previously Approved Information Collection(s): Requirements for Eligibility of U.S.-Flag Vessels of 100 Feet or Greater in Registered Length to Obtain a Fishery Endorsement

AGENCY: Maritime Administration, DOT.

ACTION: Notice and request for comments.

SUMMARY: The Maritime Administration (MARAD) invites public comments about our intention to request the Office of Management and Budget (OMB) approval to renew an information collection. We are required to publish this notice in the Federal Register by the Paperwork Reduction Act of 1995, Public Law 104-13.

DATES: Written comments should be submitted by April 20, 2015.

ADDRESSES: You may submit comments [identified by Docket No. DOT-MARAD-2015-0012] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Michael C. Pucci, (202) 366-5167, Division of Maritime Programs, Maritime Administration, 1200 New Jersey Avenue SE., Washington, DC 20590.

SUPPLEMENTARY INFORMATION:

OMB Control Number: 2133-0530

Title: Form Numbers: Requirements for Eligibility of U.S.-Flag Vessels of 100 Feet or Greater in Registered Length to Obtain a Fishery Endorsement.

Type of Review: Renewal of an information collection.

Background: In accordance with the American Fisheries Act of 1998, owners of vessels of 100 feet or greater who wish to obtain a fishery endorsement to the vessels' documentation are required to file with the Maritime Administration (MARAD) an Affidavit of United States Citizenship. The information collection is necessary for MARAD to determine that a particular vessel is owned and controlled by United Sates citizens and is eligible to receive a fishery endorsement to its documentation.

Respondents: Vessel owners, charterers, mortgagees, mortgage trustees and managers of vessels of 100 feet or greater who seek a fishery endorsement for the vessel.

Number of Respondents: 500.

Frequency: Annually.

Number of Responses: 500.

Total Annual Burden: 2950.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.93.

Dated: February 3, 2015.
Christine Gurland,
Acting Secretary, Maritime Administration.

[FR Doc. 2015-03380 Filed 2-17-15; 8:45 am]

BILLING CODE 4910-81-P